DEPARTMENT OF THE INTERIOR

Bureau of Land Management

[CA-610-1430-ET; CARI 02685]

Opening of Land; California

AGENCY: Bureau of Land Management, Interior.

ACTION: Notice.

SUMMARY: Public Land Order number 5043 expired on April 19, 1981. However, the lands, withdrawn by that order, were never opened pursuant to 43 CFR 2091.6.

EFFECTIVE DATES: June 22, 2000.

FOR FURTHER INFORMATION CONTACT: Duane Marti, BLM California State Office, 2800 Cottage Way, Suite W-1834, Sacramento, California 95825-1886, 916-978-4675.

SUPPLEMENTARY INFORMATION: 1. Public Land Order number 5043, as revoked in part by Public Land Order number 5656, withdrew approximately 6,757 acres from all forms of appropriation under the public land laws, including the mining laws. Public Land Order number 5043 terminated on April 19, 1981, under its own terms. Under the authority of the Federal Land Policy and Management Act of 1976 (43 U.S.C. 1701), the following lands are hereby opened to the operation of the public land laws, including the mining laws, subject to valid existing rights, the provisions of existing withdrawals, other segregations of record, and the requirements of applicable laws:

(a). San Bernardino Meridian

T. 11 S., R. 11 E.,

Secs. 2, 4, 10, 12, and 14;

Sec. 16, NE¼, E½NW¼, N½SE¼, and SE¼SE¼;

Secs. 22, 24, and 26.

The areas described aggregate approximately 5,477 acres of federally owned lands.

(b). San Bernardino Meridian

T. 11 S., R. 11 E.,

Secs. 23 and 25.

The areas described aggregate approximately 1,280 acres of non-federally owned lands.

2. The lands described above in paragraph 1(a) are federally owned lands that are withdrawn from both surface entry and mining by two overlapping withdrawals and those lands will not be opened to either surface entry or mining. Consequently, the opening, insofar as it affects those lands, is a record clearing action only.

3. The lands described above in paragraph 1(b) are non-federally owned lands that were conveyed out of public ownership on August 11, 1919 by a railroad patent. Consequently, the opening, insofar as it affects those lands, is a record clearing action only.

Dated: June 15, 2000.
David McIlnay,
Chief, Branch of Lands.

[FR Doc. 00-15767 Filed 6-21-00; 8:45 am]

BILLING CODE 4310-40-P